DEPARTMENT OF COMMERCE

Foreign-Trade Zones Board

[B-1-2014]

Authorization of Production Activity, Foreign-Trade Subzone 181B, Mitsubishi Electric Power Products Inc., (Circuit Breakers), Sebring, Ohio

On December 26, 2013, Mitsubishi Electric Power Products Inc., operator of Subzone 181B, submitted a notification of proposed production activity to the Foreign-Trade Zones (FTZ) Board for its facility in Sebring, Ohio.

The notification was processed in accordance with the regulations of the FTZ Board (15 CFR part 400), including notice in the Federal Register inviting public comment (79 FR 3175-3176, 1-17-2014). The FTZ Board has determined that no further review of the activity is warranted at this time. The production activity described in the notification is authorized, subject to the FTZ Act and the FTZ Board's regulations, including Section 400.14.

Dated: April 28, 2014.
Andrew McGilvray,
Executive Secretary.

[FR Doc. 2014-11120 Filed 5-13-14; 8:45 am]

BILLING CODE 3510-DS-P